DEPARTMENT OF TRANSPORTATION

Federal Aviation Administration

14 CFR Part 71

[Docket No. FAA-2024-1980; Airspace Docket No. 24-ASO-21]

RIN 2120-AA66

Amendment of Class E Airspace; Tarboro, NC

AGENCY: Federal Aviation Administration (FAA), DOT.

ACTION: Final rule; correction.

SUMMARY: This action corrects a final rule published by the FAA in the Federal Register on May 2, 2025. That final rule amended Class E airspace extending upward from 700 feet above the surface for ECU Health Edgecombe Heliport, Tarboro, NC, to accommodate new area navigation (RNAV) global positioning system (GPS) standard instrument approach procedures serving the heliport. That earlier final rule also updated the coordinates to reflect the most current and accurate location for Tarboro Edgecombe Airport. However, the updated coordinates were incorrect. Therefore, this action corrects that final rule by revising the coordinates.

DATES: The effective date of the final rule published in the Federal Register on May 2, 2025 (90 FR 18777), remains 0901 UTC, June 12, 2025. The Director of the Federal Register approves this incorporation by reference action under 1 CFR part 51, subject to the annual revision of FAA Order JO 7400.11 and publication of conforming amendments.

FOR FURTHER INFORMATION CONTACT: Rachel Cruz, Operations Support Group, Eastern Service Center, Federal Aviation Administration, 1701 Columbia Ave., College Park, GA 30337; Telephone (404) 305-5571.

SUPPLEMENTARY INFORMATION:

History

The FAA published a notice of proposed rulemaking for Docket No. FAA 2024-1980 in the Federal Register (89 FR 88683; November 8, 2024), proposing to amend Class E airspace extending upward from 700 feet above the surface for ECU Health Edgecombe Heliport, Tarboro, NC. Interested parties were invited to participate in this rulemaking effort by submitting written comments on the proposal to the FAA. No comments were received.

In the final rule published May 2, 2025, (90 FR 18777) for Docket No. FAA-2024-1980, the published coordinates were incorrect. Therefore, the FAA corrects the final rule as follows.

Correction to Final Rule

Accordingly, pursuant to the authority delegated to me, the final rule for Docket No. FAA-2024-2048, as published in the Federal Register on May 2, 2025 (90 FR 18777; FR Doc. 2025-07628), is corrected as follows:

1. On page 18778, in the third column under the heading “ASO NC E5 Tarboro, NC [Amended]”, the coordinates for Tarboro-Edgecombe Airport, NC are corrected to read “(Lat. 35°56′14″ N, long. 77°32′47″ W)”.

Issued in College Park, Georgia, on June 3, 2025.
Patrick Young,
Manager, Airspace & Procedures Team North, Eastern Service Center, Air Traffic Organization.

[FR Doc. 2025-10315 Filed 6-5-25; 8:45 am]

BILLING CODE 4910-13-P